DEPARTMENT OF ENERGY

Federal Energy Regulatory Commission

Notice of Application for Change in Land Rights and Non-Project Use of Project Lands and Soliciting Comments, Motions To Intervene, and Protests

May 19, 2005.

Take notice that the following application has been filed with the Commission and is available for public inspection:

a. Application Type: Change in land rights and non-project use of project lands.

b. Project No.: 2221-034.

c. Date Filed: July 7, 2004 and supplemented on May 12, 2005.

d. Applicant: Empire District Electric Company.

e. Name of Project: Ozark Beach Hydroelectric Project.

f. Location: The project is located on the White River in Taney County, Missouri.

g. Filed Pursuant to: Federal Power Act, 16 U.S.C. 791(a)-825(r), 799 and 801.

h. Applicant Contact: Mr. David Gibson, 602 Joplin Street; P.O. Box 127; Joplin, MO 64802; (417) 625-5100.

i. FERC Contact: Any questions on this notice should be addressed to Isis Johnson at (202) 502-6346, or by e-mail: Isis.Johnson@ferc.gov.

j. Deadline for filing comments and or motions: June 10, 2005.

All documents (original and eight copies) should be filed with: Ms. Magalie R. Salas, Secretary, Federal Energy Regulatory Commission, 888 First Street, NE., Washington DC, 20426. Please include the project number (P-2221-034) on any comments or motions filed. Comments, protests, and interventions may be filed electronically via the internet in lieu of paper. See, 18 CFR 385.2001(a)(1)(iii) and the instructions on the Commission's web site under the “e-Filing” link. The Commission strongly encourages e-filings.

k. Description of Request: Empire District Electric Company, licensee for the Ozark Beach Hydroelectric Project, has requested Commission approval to lease approximately 10 acres of project lands to The City of Branson, Missouri (City) for commercial and retail development. The property will be leased in three separate parcels. The first parcel is 9.37 acres and located south of Roark Creek. This area presently includes a parking lot, public park and streets, and will remain the same with the exception that 3.5 acres of green space, tennis courts, and a pavilion will be converted into a parking lot. The second parcel is 0.43 acres of green space, tennis courts and parking lot that will be converted to a building site for retail merchants. The last parcel is a 0.59 acre strip of green space that runs perpendicular to Lake Taneycomo and will be used for merchant building sites, streets and parking.

l. Location of the Application: This filing is available for review at the Commission or may be viewed on the Commission's Web site at http://www.ferc.gov, using the “eLibrary” link. Enter the docket number excluding the last three digits in the docket number field to access the document. For assistance, contact FERC Online Support at FERCOnlineSupport@ferc.gov or toll-free at (866) 208-3676, or for TTY, contact (202) 502-8659.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, or “MOTION TO INTERVENE”, as applicable, and the Project Number of the particular application to which the filing refers. A copy of any motion to intervene must also be served upon each representative of the Applicant specified in the particular application.

p. Agency Comments—Federal, state, and local agencies are invited to file comments on the described applications. A copy of the applications may be obtained by agencies directly from the Applicant. If an agency does not file comments within the time specified for filing comments, it will be presumed to have no comments. One copy of an agency's comments must also be sent to the Applicant's representatives.

Magalie R. Salas,
Secretary.

[FR Doc. E5-2701 Filed 5-26-05; 8:45 am]

BILLING CODE 6717-01-P